SECURITIES AND EXCHANGE COMMISSION

Proposed Collection; Comment Request

Upon Written Request, Copies Available From: Securities and Exchange Commission, Office of Investor Education and Advocacy, Washington, DC 20549-0213.

Extension:

Notice of Exempt Preliminary Roll-Up Communication, OMB Control No. 3235-0452, SEC File No. 270-396

Notice is hereby given that pursuant to the Paperwork Reduction Act of 1995 (44 U.S.C. 3501 et seq.) the Securities and Exchange Commission (“Commission”) is soliciting comments on the collection of information summarized below. The Commission plans to submit this existing collection of information to the Office of Management and Budget for extension approval.

A Notice of Exempt Preliminary Roll-Up Communication (“Notice”) (17 CFR 240.14a-104) provides information regarding ownership interest and any potential conflicts of interest to be included in statements submitted by or on behalf of a person pursuant to Exchange Act Rule (17 CFR 240.14a-2(b)(4)) and Exchange Act Rule (17 CFR 240.14a-6(n)). The Notice takes approximately 0.25 hours per response and is filed by 4 respondents for a total of one annual burden hour.

Written comments are invited on: (a) Whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication.

Please direct your written comments to Charles Boucher, Director/CIO, Securities and Exchange Commission, C/O Shirley Martinson 6432, General Green Way, Alexandria, Virginia 22312; or send an e-mail to: PRA_Mailbox@sec.gov.

Dated: March 16, 2010.
Florence E. Harmon,
Deputy Secretary.

[FR Doc. 2010-6152 Filed 3-19-10; 8:45 am]

BILLING CODE 8011-01-P